ENVIRONMENTAL PROTECTION AGENCY

40 CFR Part 81

[EPA-R04-OAR-2018-0017; FRL-9975-52-Region 4]

Air Plan Approval and Air Quality Designation; SC; Redesignation of the Greenville-Spartanburg Unclassifiable Area

AGENCY: Environmental Protection Agency.

ACTION: Proposed rule.

SUMMARY: On January 22, 2018, the State of South Carolina, through the Department of Health and Environmental Control (DHEC), submitted a request for the Environmental Protection Agency (EPA) to redesignate the Greenville-Spartanburg, South Carolina fine particulate matter (PM2.5) unclassifiable area (hereinafter referred to as the “Greenville Area” or “Area”) to unclassifiable/attainment for the 1997 primary and secondary annual PM2.5 national ambient air quality standards (NAAQS). The Greenville Area is comprised of Anderson, Greenville, and Spartanburg Counties in South Carolina. EPA now has sufficient data to determine that the Greenville Area is in attainment of the 1997 primary and secondary annual PM2.5 NAAQS. Therefore, EPA is proposing to approve the State's request and redesignate the Area to unclassifiable/attainment for the 1997 primary and secondary annual PM2.5 NAAQS based upon valid, quality-assured, and certified ambient air monitoring data showing that the PM2.5 monitors in the Area are in compliance with the 1997 primary and secondary annual PM2.5 NAAQS.

DATES: Comments must be received on or before April 12, 2018.

ADDRESSES: Submit your comments, identified by Docket ID No. EPA-R04-OAR-2018-0017 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Madolyn Sanchez, Air Regulatory Management Section, Air Planning and Implementation Branch, Air, Pesticides and Toxics Management Division, U.S. Environmental Protection Agency, Region 4, 61 Forsyth Street SW, Atlanta, Georgia 30303-8960. Ms. Sanchez can be reached by telephone at (404) 562-9644 or via electronic mail at sanchez.madolyn@epa.gov.

SUPPLEMENTARY INFORMATION:

I. Background

The Clean Air Act (CAA or Act) establishes a process for air quality management through the establishment and implementation of the NAAQS. After the promulgation of a new or revised NAAQS, EPA is required to designate areas, pursuant to section 107(d)(1) of the CAA, as attainment, nonattainment, or unclassifiable. On July 18, 1997 (62 FR 38652), EPA revised the NAAQS for particulate matter to add new standards for PM2.5 (annual and 24-hour). The primary and secondary annual standards were each set at a level of 15.0 micrograms per cubic meter (µg/m³), based on a 3-year average of annual mean PM2.5 concentrations. The primary and secondary 24-hour standards were each set at a level of 65 µg/m³, based on a 3-year average of the 98th percentile of 24-hour concentrations. EPA established the standards based on significant evidence and numerous health studies demonstrating that serious health effects are associated with exposures to particulate matter.

The process for designating areas following promulgation of a new or revised NAAQS is contained in section 107(d)(1) of the CAA. EPA and state air quality agencies initiated the monitoring process for the 1997 PM2.5 NAAQS in 1999, and deployed all air quality monitors by January 2001. On January 5, 2005 (70 FR 944), EPA designated areas across the country as nonattainment, unclassifiable, or unclassifiable/attainment ¹ for the PM2.5 NAAQS based upon air quality monitoring data from these monitors for calendar years 2001-2003.

¹ For the initial PM area designations in 2005 (for the 1997 annual PM2.5 NAAQS), EPA used a designation category of “unclassifiable/attainment” for areas that had monitors showing attainment of the standard and were not contributing to nearby violations and for areas that did not have monitors but for which EPA had reason to believe were likely attaining the standard and not contributing to nearby violations. EPA used the category “unclassifiable” for areas in which EPA could not determine, based upon available information, whether or not the NAAQS was being met and/or EPA had not determined the area to be contributing to nearby violations. EPA reserves the “attainment” category for when EPA redesignates a nonattainment area that has attained the relevant NAAQS and has an approved maintenance plan.

Greenville County, South Carolina, had a monitor with less than three years of data since the monitor had not been in operation for the full 2001-2003 period. Based upon the data that was obtained during its operation, the monitor indicated a potential to violate the 1997 annual PM2.5 NAAQS. Also, Anderson and Spartanburg Counties had emissions and population levels that potentially contributed to the elevated concentrations of PM2.5 at the Greenville monitor in question. Therefore, EPA designated all three counties—Anderson, Greenville and Spartanburg—as unclassifiable for the 1997 annual PM2.5 NAAQS.

II. What are the criteria for redesignating an area from unclassifiable to unclassifiable/attainment?

Section 107(d)(3) of the CAA provides the framework for changing the area designations for any NAAQS pollutants. Section 107(d)(3)(A) provides that the Administrator may notify the Governor of any state that the designation of an area should be revised “on the basis of air quality data, planning and control considerations, or any other air quality-related considerations the Administrator deems appropriate.” The Act further provides in section 107(d)(3)(D) that even if the Administrator has not notified a state Governor that a designation should be revised, the Governor of any state may, on the Governor's own motion, submit a request to revise the designation of any area, and the Administrator must approve or deny the request.

When approving or denying a request to redesignate an area, EPA bases its decision on the air quality data for the area as well as the considerations provided under section 107(d)(3)(A).² In keeping with section 107(d)(1)(A), areas that are redesignated to unclassifiable/attainment must meet the requirements for attainment areas and thus must meet the relevant NAAQS. In addition, the area must not contribute to ambient air quality in a nearby area that does not meet the NAAQS. The relevant monitoring data must be collected and quality-assured in accordance with 40 CFR part 58 and recorded in the EPA Air Quality System (AQS) database. The designated monitors generally should have remained at the same location for the duration of the monitoring period upon which the redesignation request is based.³

² While CAA section 107(d)(3)(E) also list specific requirements for redesignations, those requirements only apply to redesignations of nonattainment areas to attainment and therefore are not applicable in the context of a redesignation of an area from unclassifiable to unclassifiable/attainment.

³ See Memorandum from John Calcagni, Director, EPA Air Quality Management Division, entitled “Procedures for Processing Requests to Redesignate Areas to Attainment” (September 4, 1992).

III. What is EPA's rationale for proposing to redesignate the Area?

In order to redesignate the Area from unclassifiable to unclassifiable/attainment for the 1997 primary and secondary annual PM2.5 NAAQS, the 3-year average of annual arithmetic mean concentrations (i.e., design value) over the most recent 3-year period must be less than or equal to 15.0 µg/m³ at all monitoring sites in the Area over the full 3-year period, as determined in accordance with 40 CFR 50.18 and Appendix N of Part 50. EPA reviewed PM2.5 monitoring data from monitoring stations in the Greenville Area for the 1997 primary and secondary annual PM2.5 NAAQS for the 3-year period from 2014-2016. These data have been quality-assured, certified, and recorded in AQS by South Carolina, and the monitoring locations have not changed during the monitoring period. As summarized in Table 1, the design values for the monitors in the Area for the 2014-2016 period are well below the 1997 primary and secondary annual PM2.5 NAAQS.

Table 1—1997 Annual PM2.5 Design Values for Monitors in the Greenville Area for 2014-2016
Local site name | Monitoring site | 2014-2016 Design value (μg/m³)
Greenville ESC | 45-045-0015 | 9.3
Hillcrest Middle School | 45-045-0016 | 8.6
T.K. Gregg | 45-083-0011 | 8.7

Because the 3-year design values, based on valid, quality-assured data, demonstrate that the Area meets the 1997 primary and secondary annual PM2.5 standards, EPA is proposing to redesignate the Greenville Area from unclassifiable to unclassifiable/attainment for this NAAQS.

IV. Proposed Action

EPA is proposing to approve South Carolina's January 22, 2018, request to redesignate the Greenville Area from unclassifiable to unclassifiable/attainment for the 1997 primary and secondary annual PM2.5 NAAQS. If finalized, approval of the redesignation request would change the legal designation, found at 40 CFR part 81, of Anderson, Greenville, and Spartanburg Counties from unclassifiable to unclassifiable/attainment for the 1997 primary and secondary annual PM2.5 NAAQS.

V. Statutory and Executive Order Reviews

Under the CAA, redesignation of an area to unclassifiable/attainment is an action that affects the status of a geographical area and does not impose any additional regulatory requirements on sources beyond those imposed by state law. A redesignation to unclassifiable/attainment does not in and of itself create any new requirements. Accordingly, this proposed action merely proposes to redesignate an area to unclassifiable/attainment and does not impose additional requirements. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because redesignations are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Will not have disproportionate human health or environmental effects under Executive Order 12898 (59 FR 7629, February 16, 1994).

In addition, this proposed action to redesignate the Greenville Area from unclassifiable to unclassifiable/attainment for the 1997 primary and secondary annual PM2.5 NAAQS does not have Tribal implications as specified by Executive Order 13175 (65 FR 67249, November 9, 2000). The Catawba Indian Nation Reservation is located within the State of South Carolina. Pursuant to the Catawba Indian Claims Settlement Act, S.C. Code Ann. 27-16-120, “all state and local environmental laws and regulations apply to the Catawba Indian Nation and Reservation and are fully enforceable by all relevant state and local agencies and authorities.” However, because no tribal lands are located within the Area and the redesignation does not create new requirements, EPA has determined that this proposed rule does not have substantial direct effects on an Indian Tribe. EPA notes this proposed action will not impose substantial direct costs on Tribal governments or preempt Tribal law.

List of Subjects in 40 CFR Part 81

Environmental protection, Air pollution control.

Authority: 42 U.S.C. 7401, et seq.

Dated: March 5, 2018.
Onis “Trey” Glenn, III,
Regional Administrator, Region 4.

[FR Doc. 2018-05060 Filed 3-12-18; 8:45 am]

BILLING CODE 6560-50-P